DEPARTMENT OF THE INTERIOR

National Park Service

Winter Use Plans, Environmental Impact Statement, Yellowstone and Grand Teton National Parks and the John D. Rockefeller, Jr., Memorial Parkway, Wyoming, Montana, and Idaho

AGENCY: National Park Service, Department of the Interior.

ACTION: Notice of intent to prepare an Environmental Impact Statement for the Winter Use Plans, Yellowstone and Grand Teton National Parks and the John D. Rockefeller, Jr., Memorial Parkway.

SUMMARY: Pursuant to the National Environmental Policy Act of 1969, 42 U.S.C. 4332(2)(C), the National Park Service is preparing an Environmental Impact Statement (EIS) for the Winter Use Plans for Yellowstone and Grand Teton National Parks and the John D. Rockefeller, Jr., Memorial Parkway. These three park units are located in Wyoming, Montana, and Idaho. This effort will result in a comprehensive management plan for winter recreational use of the parks. The NPS will be inviting several other government agencies to participate in the development of the EIS as cooperating agencies, including the states of Wyoming, Montana, and Idaho; the counties of Park and Teton, Wyoming, Gallatin and Park, Montana, and Fremont, Idaho; the Environmental Protection Agency; and the U.S. Forest Service.

A scoping letter has been prepared that details the issues identified to date. Copies of that information may be obtained online at http://parkplanning.nps.gov or from Yellowstone National Park, P.O. Box 168, Yellowstone National Park, WY 82190, 307-344-2019.

The NPS is interested in obtaining comments from the public on the scope of the EIS, the issues that the EIS should address and the alternatives that should be considered in the EIS. Comments submitted during this scoping period will allow the NPS to address these public concerns as the EIS is prepared.

Background: The NPS is preparing this EIS to develop a long-term plan for managing winter recreational use in three park units. Currently, winter use in the parks is operating under a temporary winter use plan. This plan and environmental assessment were completed with the signing of a finding of no significant impact on November 4, 2004, and implementing regulations published on November 10, 2004. The plan is intended to be in effect for three winter seasons (i.e., the winters of 2004-2005, 2005-2006, and 2006-2007), while the NPS prepares a long-term plan and analysis of the effects of winter use in the parks. This notice of intent formally begins the long-term planning process.

The temporary winter use plan allows for a maximum of 720 snowmobiles in Yellowstone each day. All recreational snowmobiles in Yellowstone must be led by commercial guides. In Grand Teton, 50 snowmobiles are allowed per day on the Continental Divide Snowmobile Trial and Grassy Lake Road and 40 snowmobiles are allowed per day on Jackson Lake in order to provide access for ice fishing. With few exceptions, all snowmobiles are required to be “Best Available Technology” (BAT), which are the cleanest and quietest commercially available snowmobiles. Snowplanes are not allowed on Jackson Lake. Snowcoaches are also permitted in Yellowstone and the Rockefeller Parkway, and are required to have functioning emissions control equipment.

Because the temporary winter use plan is only in effect for three winter seasons, the NPS intends to complete this EIS process and issue new regulations (if necessary) prior to the start of the 2007-2008 winter season.

The purpose of the EIS will be to ensure that park visitors have a range of appropriate winter recreational opportunities, while ensuring that these recreational activities are in an appropriate setting and do not impair or irreparably harm park resources or values. Alternatives to be considered in the EIS will focus on responding to the purpose and need. Specifically, the NPS will include alternatives allowing varying amounts and types of snowmobile and/or snowcoach use. The NPS will also consider alternatives with varying guiding requirements, including allowing for some unguided or non-commercially snowmobile guided use. In addition, the EIS will examine the effects of road grooming (which is necessary to allow for oversnow travel for both administrative and recreational use of snowmobiles and snowcoaches) on bison and other ungulates. To assess this issue, the EIS will consider an alternative or alternatives that would eliminate road grooming on some or all park roads.

Major issues to be addressed in the EIS include the environmental effects of winter use on air quality and visibility, natural soundscapes, employee and visitor health and safety, wildlife (including the effects of road grooming on bison and other ungulates), visitor experience, and socioeconomics.

A more detailed history of the winter use issue is available online at http://www.nps.gov/yell/planvisit/winteruse/index.htm.

DATES: The National Park Service will accept comments from the public on the scope of the EIS for 60 days from the date this notice is published in the Federal Register.

ADDRESSES: Information will be available for public review online at http://parkplanning.nps.gov and at Yellowstone National Park headquarters, Mammoth Hot Springs, Wyoming, and at Grand Teton National Park headquarters, Moose, Wyoming.

FOR FURTHER INFORMATION CONTACT: Debbie VanDePolder, Yellowstone National Park, P.O. Box 168, Yellowstone National Park, WY 82190; 307-344-2019.

SUPPLEMENTARY INFORMATION: If you wish to comment on the issues or alternatives to be addressed in the EIS, or on any other issues associated with the plan, you may submit your comments by any one of several methods. You may mail comments to Winter Use Scoping, Yellowstone National Park, P.O. Box 168, Yellowstone National Park, WY 82190. You may also comment via the Internet at http://parkplanning.nps.gov. Finally, you may hand-deliver comments to Yellowstone National Park headquarters, Mammoth Hot Springs, Wyoming. Our practice is to make comments, including names and home addresses of respondents, available for public review during regular business hours. Individual respondents may request that we withhold their home address from the record, which we will honor to the extent allowable by law. There also may be circumstances in which we would withhold from the record a respondent's identity, as allowable by law. If you wish us to withhold your address, you must state this prominently at the beginning of your comment. We will make all submissions from organizations or businesses, and from individuals identifying themselves as representatives or officials of organizations or businesses, available for public inspection in their entirety.

Dated: June 3, 2005.
Michael D. Snyder,
Acting Director, Intermountain Region, National Park Service.

[FR Doc. 05-12538 Filed 6-23-05; 8:45 am]

BILLING CODE 4310-70-P